DEPARTMENT OF COMMERCE

National Institute of Standards and Technology

[Docket No.: 04129029-4029-01]

Voluntary Product Standard (PS) 20-99, American Softwood Lumber Standard

AGENCY: National Institute of Standards and Technology, Commerce.

ACTION: Request for Comments.

SUMMARY: The National Institute of Standards and Technology (NIST) is requesting comments on Voluntary Product Standard (PS) 20-99, American Softwood Lumber Standard. This standard serves the procurement and regulatory needs of numerous Federal, State, and local government agencies by providing for uniform, industry-wide grade-marking and inspection requirements for softwood lumber. The implementation of the standard also allows for uniform labeling and auditing of treated-wood panels and, through a Memorandum of Understanding with the U.S. Department of Agriculture, labeling and auditing of wood packaging materials for international trade. As part of a five year review process, NIST is seeking public comment and invites interested parties to review the standard and submit comments.

DATES: Written comments regarding PS 20-99 should be submitted to the Standards Coordination and Conformity Group, Standards Services Division, NIST, no later than May 17, 2004.

ADDRESSES: An electronic copy (in PDF) of the standard, PS 20-99, can be obtained at the following Web site http://ts.nist.gov/docvps. Printed copies may be obtained from the address below. Written comments on the standard should be submitted to Ms. JoAnne Overman, Standards Coordination and Conformity Group, Standards Services Division, NIST, 100 Bureau Drive, Stop 2150, Gaithersburg, MD 20899-2150; fax (301) 975-5414. Electronic comments may be submitted via e-mail to joanne.overman@nist.gov.

FOR FURTHER INFORMATION CONTACT: Ms. JoAnne Overman, Standards Coordination and Conformity Group, Standards Services Division, National Institute of Standards and Technology, telephone: (301) 975-4037; fax: (301) 975-5414, e-mail: joanne.overman@nist.gov.

SUPPLEMENTARY INFORMATION: Under Department of Commerce procedures established in Title 15 Code of Federal Regulations Part 10, Procedures for the Development of Voluntary Product Standards, and administered by NIST, the American Lumber Standard Committee acts as the Standing Committee for PS 20-99, American Softwood Lumber Standard, and is responsible for maintaining, revising, and interpreting the standard. The Committee is comprised of producers, distributors, users, and others with an interest in the standard.

Voluntary Product Standard (PS) 20-99 establishes standard sizes and requirements for developing and coordinating the lumber grades of the various species of softwood lumber, the assignment of design values, and the preparation of grading rules applicable to each species. Its provisions include implementation of the standard through an accreditation and certification program; establishment of principal trade classifications and lumber sizes for yard, structural, and factory/shop use; classification, measurement, grading, and grade-marking of lumber; definitions of terms and procedures to provide a basis for the use of uniform methods in the grading inspection, measurement, and description of softwood lumber; commercial names of the principal softwood species; definitions of terms used in describing standard grades of lumber; and commonly used industry abbreviations. The standard also includes the organization and functions of the American Lumber Standard Committee, the Board of Review, and the National Grading Rule Committee.

All public comments will be reviewed and considered. The American Lumber Standard Committee and NIST will revise the standard accordingly.

Dated: February 20, 2004.
Hratch G. Semerjian,
Deputy Director.

[FR Doc. 04-4443 Filed 2-27-04; 8:45 am]

BILLING CODE 3510-13-P